DEPARTMENT OF COMMERCE

Foreign-Trade Zones Board

[S-203-2022]

Foreign-Trade Zone 222—Montgomery, Alabama, Application for Subzone, Jo-Ann Stores, LLC, Opelika, Alabama

An application has been submitted to the Foreign-Trade Zones (FTZ) Board by the Montgomery Area Chamber of Commerce, grantee of FTZ 222, requesting subzone status for the facility of Jo-Ann Stores LLC (Jo-Ann Stores), located in Opelika, Alabama. The application was submitted pursuant to the provisions of the Foreign-Trade Zones Act, as amended (19 U.S.C. 81a-81u), and the regulations of the FTZ Board (15 CFR part 400). It was formally docketed on November 21, 2022.

The proposed subzone (30 acres) is located at 3101 Anderson Road, Opelika, Alabama. No authorization for production activity has been requested at this time. The proposed subzone would be subject to the existing activation limit of FTZ 222.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is January 9, 2023. Rebuttal comments in response to material submitted during the foregoing period may be submitted during the subsequent 15-day period to January 23, 2023.

A copy of the application will be available for public inspection in the “Online FTZ Information Section” section of the FTZ Board's website, which is accessible via www.trade.gov/ftz.

For further information, contact Christopher Kemp at Christopher.Kemp@trade.gov.

Dated: November 21, 2022.
Andrew McGilvray,
Executive Secretary.

[FR Doc. 2022-25806 Filed 11-25-22; 8:45 am]

BILLING CODE 3510-DS-P